DEPARTMENT OF HEALTH AND HUMAN SERVICES

Meeting Announcement for the Physician-Focused Payment Model Technical Advisory Committee Required by the Medicare Access and CHIP Reauthorization Act (MACRA) of 2015

ACTION: Notice of public meeting.

SUMMARY: This notice announces the meeting date for the Physician-Focused Payment Model Technical Advisory Committee (hereafter referred to as “the Committee”) on Wednesday, May 4, 2016 in Washington, DC.

Table of Contents

Dates

Addresses

Meeting Registration

For Further Information Contact

Supplementary Information

I. Purpose

II. Agenda

III. Meeting Attendance

IV. Security and Building Guidelines

V. Special Accommodations

VI. Copies of the Charter

DATES: The meeting will be held on Wednesday, May 4, 2016, from 12:00 p.m. to 3:00 p.m. Eastern Daylight Time (EDT) and it is open to the public.

ADDRESSES: The meeting will be held in Room 800 of the Hubert H. Humphrey Building, 200 Independence Ave. SW., Washington, DC, 20201.

Meeting Registration

The public may attend the meeting in-person or listen by phone via audio teleconference. Space is limited and registration is required in order to attend in-person or by phone. Registration may be completed online at https://www.regonline.com/PTACMeetingsRegistration. All the following information must be submitted when registering:

Name.

Company name.

Postal address.

Email address.

If sign language interpretation or other reasonable accommodation for a disability is needed, please contact Scott R. Smith, no later than April 25, 2016 at the contact information listed below.

FOR FURTHER INFORMATION CONTACT: Scott R. Smith, Ph.D., Designated Federal Officer, at the Office of Health Policy, Assistant Secretary for Planning and Evaluation, U.S. Department of Health and Human Services, 200 Independence Ave. SW., Washington, DC 20201, (202) 690-6870.

SUPPLEMENTARY INFORMATION:

I. Purpose

The Physician-Focused Payment Model Technical Advisory Committee (“the Committee”) is required by the Medicare Access and CHIP Reauthorization Act of 2015, 42 U.S.C 1395ee. This Committee is also governed by provisions of the Federal Advisory Committee Act, as amended (5 U.S.C App.), which sets forth standards for the formation and use of federal advisory committees. In accordance with its statutory mandate, the Committee is to review physician-focused payment model proposals and prepare recommendations regarding whether such models meet criteria that will be established through rulemaking by the Secretary of Health and Human Services (the Secretary). The Committee is composed of 11 members appointed by the Comptroller General with staggered terms of 1, 2, and 3 years.

II. Agenda

The Committee will have initial discussions about how physician-focused payment models proposals will be submitted and reviewed by the Committee after the Secretary establishes criteria for physician-focused payment models through rulemaking. There will be time allocated for public comment on a draft proposal review document. This document will be posted on the Committee Web site and distributed on the Committee listserv prior to the public meeting. The Committee will also discuss its activities in preparation for submission of proposals once the Secretarial criteria are finalized.

III. Meeting Attendance

The May 4, 2016 meeting is open to the public; however, in-person attendance is limited to space available. Priority to attend the meeting in-person will be given to those who pre-register. If the meeting venue reaches its seating capacity, other registrants will be limited to participating by telephone.

Persons wishing to attend this meeting, which is located on federal property, must register by following the instructions in the “Meeting Registration” section of this notice. A confirmation email will be sent to the registrants shortly after completing the registration process.

IV. Security and Building Guidelines

The following are the security and building guidelines:

Persons attending the meeting, including presenters, must be pre-registered and on the attendance list by the prescribed date.

Individuals who are not pre-registered in advance may not be permitted to enter the building and may be unable to attend the meeting.

Attendees must present a government-issued photo identification to the Federal Protective Service or Guard Service personnel before entering the building. Without a current, valid photo ID, persons may not be permitted entry to the building. All persons entering the building must pass through a metal detector.

All items brought into the Humphrey Building including personal items, for example, laptops and cell phones, are subject to physical inspection.

The public may enter the building 30 to 45 minutes before the meeting convenes.

V. Special Accommodations

Individuals requiring special accommodations must include the request for these services during registration.

VI. Copies of the Charter

The Secretary's Charter for the Physician-Focused Payment Model Technical Advisory Committee is available on the ASPE Web site at https://aspe.hhs.gov/medicare-access-and-chip-reauthorization-act-2015. Information about how to subscribe to the Committee's email listserv is found at https://aspe.hhs.gov/contact-physician-focused-payment-model-technical-advisory-committee.

Dated: April 8, 2016.
Richard G. Frank,
Assistant Secretary for Planning and Evaluation.

[FR Doc. 2016-09762 Filed 4-26-16; 8:45 am]

BILLING CODE 4150-05-P